NATIONAL COUNCIL ON DISABILITY

Sunshine Act Meetings

TIME AND DATE: The Members of the National Council on Disability (NCD) will hold a two-day in-person Council meeting on Thursday, May 29, 2025, 9:30 a.m.-4:45 p.m. Eastern Daylight Time (EDT). and Friday, May 30, 2025, 9:30 a.m.-1 p.m., EDT.

PLACE: This meeting will take place at the JW Marriott Essex House, 160 Central Park South, New York, NY 10019. Details are available on NCD's event page at https://www.ncd.gov/meeting/2025-05-29-may-29-30-2025-council-meeting/.

MATTERS TO BE CONSIDERED:

Day 1—Following welcome remarks and introductions, the Council will have policy updates and discussion on FY26 policy proposals; a break; followed by a panel on employment of youth with disabilities; lunch break; panel on youth and younger adults in nursing homes; Council member report outs; a public comment session focused on youth and younger adults in nursing homes and major developments in disability policy; followed by adjournment.

Day 2—Following welcome and call to order, NCD Council members and staff will receive Freedom of Information Act (FOIA) training; followed by the Chairman's report and Executive Committee Report, break; and an agency strategic plan discussion before adjourning.

Agenda: The times provided below are approximations for when each agenda item is anticipated to be discussed (all Eastern Saving Time):

Thursday, May 29, 2025

9:30-10:00 a.m.—Welcome and Call to Order

10:00-11:30 a.m.—Policy Update and Discussion of FY26 Policy Work Proposals

11:30-11:45 a.m.—Break

11:45 a.m.-1:00 p.m.—Regional Perspectives: Employment Initiatives and Challenges for Employment of Youth with Disabilities

1:00-2:15 p.m.—Lunch Break

2:15-3:30 p.m.—Regional Perspectives: Youth and Younger Adults in Nursing Homes and Olmstead Implementation

3:30-4:00 p.m.—Council Member Reports

4:00-4:45 p.m.—Public Comments on Youth and Younger Adults in Nursing Homes; and on the Most Notable Developments in Disability Policy since Summer 2024

4:45 p.m.—Adjourn

Friday, May 30, 2025

9:30-9:45 a.m.—Welcome and Call to Order

9:45-10:15 a.m.—Staff FOIA Presentation

10:15-10:30 a.m.—Chairman's Report

10:30-11:30 a.m.—Executive Committee Report

11:30-11:45 a.m.—BREAK

11:45-1:00 p.m.—Strategic Plan Discussion and Setting Dates for FY26 meetings

1:00 p.m.—Adjourn

Public Comment: Your participation during the public comment period provides an opportunity for us to hear from you—individuals, businesses, providers, educators, parents and advocates. Your comments are important in bringing to the Council's attention and issues and priorities of the disability community.

For the May 29 Council meeting, NCD will have a public comment period of 45 minutes and requests comments from the public regarding the experiences of youth and younger adults in nursing homes and for our 2025 Progress Report focused on what the public considers the most notable disability policy developments since Summer 2024. The Council would also like to hear about any missed opportunities within those achievements. Additional information on specifics of the topic is available on NCD's public comment page at https://ncd.gov/public-comment.The Council will receive in-person comments only at the meeting.

To provide in-person public comment during the NCD Council Meeting, NCD requests advanced registration by sending an email to PublicComment@ncd.gov with the subject line “Public Comment” and your name, organization, state, and topic of comment included in the body of your email. Those who do not pre-register will be given the opportunity to sign up to give comment in-person after pre-registrants are called on.

Deadline for advance registration is May 27, 8:00 p.m. EDT. All individuals desiring to make public comment are strongly encouraged to read NCD's guidelines for public comment in advance of the meeting at: https://ncd.gov/public-comment.While public comment can be submitted on any topic over email, comments during the meeting should be specific to experiences with youth and younger adults with disabilities in nursing homes and the most notable disability policy developments since Summer 2024—both topics feeding into open projects NCD is currently researching.

CONTACT PERSON FOR MORE INFORMATION: Nicholas Sabula, Public Affairs Specialist, NCD, 1331 F Street NW, Suite 850, Washington, DC 20004; 202-272-2004 (V), or nsabula@ncd.gov.

Accommodations: ASL Interpreters will be provided in-room during the meeting, and CART has been arranged for this meeting via streamtext link. The web link to access meeting via CART Streamtext: https://www.streamtext.net/player?event=NCD.

If you require additional accommodations, please notify Stacey Brown by sending an email to sbrown@ncd.gov as soon as possible and no later than 24 hours prior to the meeting.

Due to last-minute confirmations or cancellations, NCD may substitute items without advance public notice.

Dated: April 28, 2025.
Anne C. Sommers McIntosh,
Director of Legislative Affairs and Outreach.

[FR Doc. 2025-07622 Filed 4-29-25; 11:15 am]

BILLING CODE 8421-02-P